FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 012379-001.

Agreement Name: MOL/NMCC/LGL Space Charter Agreement.

Parties: Mitsui O.S.K. Lines, Ltd. and Nissan Motor Car Carriers Co., Ltd. (acting as a single party) and Liberty Global Logistics LLC.

Filing Party: Rebecca Fenneman; Jeffrey/Fenneman Law and Strategy PLLC.

Synopsis: The amendment renames the agreement, removes WLS as a party to the agreement, and removes all authority to jointly negotiate or procure terminal services in the United States.

Proposed Effective Date: 6/15/2021.

Location: https://www2.fmc.gov/FMC.Agreements.Web/Public/AgreementHistory/74.

Agreement No.: 012366-001.

Agreement Name: MOL/NMCC and NYK Space Charter Agreement.

Parties: Mitsui O.S.K. Lines, Ltd. and Nissan Motor Car Carriers Co., Ltd. (acting as a single party) and Nippon Yusen Kaisha.

Filing Party: Rebecca Fenneman; Jeffrey/Fenneman Law and Strategy PLLC.

Synopsis: The amendment renames the agreement, revises the name of the NYK party to the agreement, removes WLS as a party to the agreement, and removes all authority to jointly negotiate or procure terminal services in the United States.

Proposed Effective Date: 6/15/2021.

Location: https://www2.fmc.gov/FMC.Agreements.Web/Public/AgreementHistory/61.

Agreement No.: 010979-067.

Agreement Name: Caribbean Shipowners Association.

Parties: Crowley Caribbean Services LLC; Hybur Ltd.; King Ocean Services Limited; Seaboard Marine, Ltd.; and Tropical Shipping and Construction Company LLC.

Filing Party: Wayne Rohde; Cozen O'Connor.

Synopsis: The amendment adds a new Article 5.K to the agreement to clarify the authority of the parties with respect to contracting jointly with third parties.

Proposed Effective Date: 6/16/2021.

Location: https://www2.fmc.gov/FMC.Agreements.Web/Public/AgreementHistory/1194.

Agreement No.: 201273-001.

Agreement Name: MOL/NMCC/Glovis Space Charter Agreement.

Parties: Mitsui O.S.K. Lines, Ltd. and Nissan Motor Car Carriers Co., Ltd. (acting as a single party) and Hyundai Glovis Co., Ltd.

Filing Party: Rebecca Fenneman; Jeffrey/Fenneman Law and Strategy PLLC.

Synopsis: The amendment revises the name of the Agreement; updates the address of Glovis; removes WLS as a party to the agreement; and removes all authority to jointly negotiate or procure terminal services in the United States.

Proposed Effective Date: 6/16/2021.

Location: https://www2.fmc.gov/FMC.Agreements.Web/Public/AgreementHistory/16284.

Agreement No.: 012358-001.

Agreement Name: MOL/NMCC and ECL Space Charter Agreement.

Parties: Mitsui O.S.K. Lines, Ltd. and Nissan Motor Car Carriers Co., Ltd. (acting as a single party) and Eastern Car Liner, Ltd.

Filing Party: Rebecca Fenneman; Jeffrey/Fenneman Law and Strategy PLLC.

Synopsis: This amendment revises the Agreement name; removes WLS from the agreement; corrects the address of ECL; and revises Article 5.3 to remove all authority to jointly negotiate or procure terminal services in the United States.

Proposed Effective Date: 6/17/2021.

Location: https://www2.fmc.gov/FMC.Agreements.Web/Public/AgreementHistory/51.

Agreement No.: 012377-001.

Agreement Name: MOL/NMCC/Hoegh Autoliners Space Charter Agreement.

Parties: Mitsui O.S.K. Lines, Ltd. and Nissan Motor Car Carriers Co., Ltd. (acting as a single party) and Hoegh Autoliners AS.

Filing Party: Rebecca Fenneman; Jeffrey/Fenneman Law and Strategy PLLC.

Synopsis: This amendment revises the name of the Agreement; removes WLS as a party to the Agreement; and removes all authority to jointly negotiate or procure terminal services in the United States.

Proposed Effective Date: 6/17/2021.

Location: https://www2.fmc.gov/FMC.Agreements.Web/Public/AgreementHistory/72.

Agreement No.: 012410-004.

Agreement Name: WWOcean/Hyundai Glovis Space Charter Agreement.

Parties: Wallenius Wilhelmsen Ocean AS and Hyundai Glovis Co. Ltd.

Filing Party: Wayne Rohde; Cozen O'Connor.

Synopsis: The amendment updates the address of Hyundai Glovis and deletes language from Article 5.1 to clarify the authority of the parties with respect to contracting with third parties.

Proposed Effective Date: 6/17/2021.

Location: https://www2.fmc.gov/FMC.Agreements.Web/Public/AgreementHistory/1874.

Agreement No.: 012312-003.

Agreement Name: Grimaldi Deep Sea S.p.A/Mitsui O.S.K. Lines Ltd. Space Charter Agreement.

Parties: Grimaldi Deep Sea S.p.A. and Grimaldi Euromed S.p.A. (acting as a single party) and Mitsui O.S.K. Lines Ltd.

Filing Party: Rebecca Fenneman; Jeffrey/Fenneman Law and Strategy PLLC.

Synopsis: The Amendment removes all authority to jointly negotiate or procure terminal services in the United States.

Proposed Effective Date: 6/22/2021.

Location: https://www2.fmc.gov/FMC.Agreements.Web/Public/AgreementHistory/183.

Agreement No.: 012454-001.

Agreement Name: MOL/NMCC/SCC Space Charter Agreement.

Parties: Mitsui O.S.K. Lines, Ltd. and Nissan Motor Car Carriers Co., Ltd. (acting as a single party) and Siem Car Carriers AS.

Filing Party: Rebecca Fenneman; Jeffrey/Fenneman Law and Strategy PLLC.

Synopsis: The Amendment revises the name of the Agreement; removes WLS as a party to the Agreement; and removes all authority to jointly negotiate or procure terminal services in the United States.

Proposed Effective Date: 6/22/2021.

Location: https://www2.fmc.gov/FMC.Agreements.Web/Public/AgreementHistory/1939.

Dated: June 23, 2021.
Rachel E. Dickon,
Secretary.

[FR Doc. 2021-13751 Filed 6-25-21; 8:45 am]

BILLING CODE 6730-02-P